DEPARTMENT OF HOMELAND SECURITY

Coast Guard

[Docket No. USCG-2016-0492]

Status of Overboard Detection Technology for Cruise Vessels

AGENCY: Coast Guard, DHS.

ACTION: Notice of request for comments.

SUMMARY: The Coast Guard is soliciting information on the status and availability of technology for immediately detecting cruise vessel passengers who have fallen overboard.

DATES: Comments must be submitted to the online docket via http://www.regulations.gov on or before October 25, 2016.

ADDRESSES: You may submit comments and supporting materials identified by docket number USCG-2016-0492 using our online docket at http://www.regulations.gov. See the “Public Participation and Request for Comments” portion of the SUPPLEMENTARY INFORMATION section for further instructions on submitting comments.

FOR FURTHER INFORMATION CONTACT: For information about this document call or email LT Paul Folino, Office of Design and Engineering Standards (CG-ENG-1), U.S. Coast Guard Headquarters; 2703 Martin Luther King Jr. Avenue SE., Washington, DC 20593; telephone 202-372-1361, email paul.j.folino@uscg.mil.

SUPPLEMENTARY INFORMATION:

I. Public Participation and Request for Comments

We encourage you to submit comments or related material on the status of overboard detection technology for cruise vessels. Your comments will help us prepare a report that accurately reflects the status and availability of overboard detection technology for use by the cruise line industry, and also help us better deliberate on international standards development for overboard detection technology. If you submit a comment, please include the docket number for this notice, indicate the specific section in this notice and the question number to which each comment applies, and provide a reason for each suggestion or recommendation. At this time, we do not anticipate publishing a response to the comments received.

We encourage you to submit comments to our online docket at http://www.regulations.gov. If your material cannot be submitted using http://www.regulations.gov, contact the person in the FOR FURTHER INFORMATION CONTACT section of this document for alternate instructions. Material submitted can be viewed by visiting http://www.regulations.gov and following that Web site's instructions. Additionally, if you go to the online docket and sign up for email alerts, you will be notified when comments or other documents are posted.

We accept anonymous comments. All comments received will be posted without change to http://www.regulations.gov and will include any personal information you have provided. For more about privacy and the docket, you may review a Privacy Act notice regarding the Federal Docket Management System in the March 24, 2005, issue of the Federal Register (70 FR 15086).

II. Purpose

On February 8, 2016, the President signed the Coast Guard Authorization Act of 2015 into law. Section 608 of the Act requires the Coast Guard to provide a report to Congress on the status of technology for immediately detecting passengers who have fallen overboard (man overboard (MOB) incidents) within 18 months of the signing of the Act.

Also, the International Organization for Standardization (ISO) Technical Committee 8 (TC8) Subcommittee 1 (SC1) is developing a standard for MOB detection systems. Input received in response to this notice could influence the Coast Guard's collaborative role in that process.

The Coast Guard, therefore, solicits comments from the public on the status and availability of this MOB detection technology.

III. Information Requested

The Coast Guard requests public comment on the following questions. It would be helpful if commenters answer the questions as specifically as possible, and then provide explanations, if any, for the responses. The content of the questions is specifically directed to overboard detection technology providers and users.

(1) If applicable, what is your position in the maritime community? (Please be as specific as possible, e.g., captain of a cruise of vessel, vessel security officer, owner/operator of a cruise vessel, past/future passenger, advocacy group, professional organization, technology provider etc.)

If you are an MOB detection technology manufacturer or vendor, please answer questions 2 through 25 and 33 through 35. If not, please answer questions 26 through 35.

General

(2) What is the MOB detection technology equipment that you manufacture and what is its status? (Please provide an overall description of the system including make, model, and other pertinent information.)

(3) Is the MOB detection technology built to any recognized standards?

(4) Has the MOB detection technology been tested on any vessels and is it currently used on any vessels?

Reliability/Testing

(5) What is the testing regimen used to validate whether the MOB detection technology system is effective (including developmental lab testing and in-service testing performed on a floating platform)?

(6) How reliable is the equipment? (In describing reliability, it is helpful to give specific, tested metrics instead of open-ended phrases such as “reliable in all sea conditions.”)

(7) Was the MOB detection technology tested in sea states, and if so, what states, and what were the subsequent false positive and false negative rates?

(8) In what weather conditions was the MOB detection technology tested and what were the subsequent false positive and false negative rates?

(9) How many times was the control test, described in questions 7 and 8 conducted?

(10) Did the expected reliability match the operational reliability?

(11) In the case of a power outage, does the MOB detection technology system maintain operability?

Detection

(12) What areas of the vessel is the MOB detection technology system designed to monitor?

(13) Can the system detect the size of an object that is falling overboard, e.g., the size of an adult vs. a child or a human vs. a large bird? If so, what size objects can the system detect?

(14) Can the system detect anything else (e.g., heat signatures for fire detection)?

(15) How does the system eliminate false positives of birds and other items that fall overboard?

Maintenance

(16) What is the suggested maintenance and inspection cycle of the MOB detection technology system to ensure its operability?

(17) Does the system require calibration, and if so, what is the calibration interval?

(18) What is the availability of technicians globally to install and service the MOB detection technology system?

(19) Does the marine environment (i.e., sea salt spray) affect the reliability of the system?

(20) What training will be required for use of the MOB detection technology system, and are there any refresher training requirements?

Retrofitting/Integration

(21) Can existing cameras and systems be retrofitted with this MOB detection technology system or is it stand-alone?

(22) How does the system integrate with the ship's existing safety command center?

(23) Is the system designed with any automation features?

(24) Does the system work in tandem with other technologies (i.e., wearable devices)?

(25) How does the alarm system work, where do the alarms sound, and in what way are the alarms visible?

If you are a cruise vessel owner or operator or if you represent a cruise line group or industry organization, please answer questions 26 through 32.

(26) How many cruise vessels use tested MOB detection technology that can detect passengers who have fallen overboard?

(27) If you do not have vessels that use MOB detection technology, is there currently a plan to integrate this technology on cruise vessels?

(28) Has anyone fallen overboard on a cruise vessel while the MOB detection technology was operating?

(29) Did the system alert the crew that someone fell overboard?

(30) How does the alarm system work, where do the alarms sound, and in what way are the alarms visible?

(31) How many cruise vessels use image capture technology for passengers who have fallen overboard?

(32) Did you receive any training on MOB detection technology? If so, please describe it.

(33) What alternative source(s) for detecting persons falling overboard would you recommend? How would you rate the alternative source(s) in terms of: (a) User cost; (b) reliability; and (c) usefulness of the information?

(34) Is there any other technology available that vessels can integrate to assist in facilitating the search and rescue of a passenger who has fallen overboard?

(35) In Section 608 of the 2015 Coast Guard Authorization Act, Congress directs the Coast Guard to consider the cost of MOB detection technology systems when determining feasibility. Our current best available cost data regarding the installation of an MOB detection technology system on an average cruise vessel is $300,000 with annual system maintenance costs of $40,000 per year. Please provide information on the costs of MOB detection technology systems, including costs for equipment and labor for installation, integration, operation, and maintenance on a range of cruise vessel sizes.

Comments regarding these questions and any other pertinent matters that you would like us to consider during the comment period will be taken into account in our future actions regarding the issues raised in this notice. We encourage you to provide your comments as we move forward with drafting the report to Congress.

This notice is issued under authority of 5 U.S.C. 552(a).

Dated: July 19, 2016.
B. Hawkins,
Captain, U.S. Coast Guard, Chief, Office of Design and Engineering Standards.

[FR Doc. 2016-17775 Filed 7-26-16; 8:45 am]

BILLING CODE 9110-04-P